NUCLEAR REGULATORY COMMISSION

[Docket No. 030-01179; NRC-2011-0078]

Notice of Availability of Environmental Assessment and Finding of No Significant Impact for License Amendment for the University of Alaska-Fairbanks, Fairbanks, AK

AGENCY: Nuclear Regulatory Commission.

ACTION: Notice of availability.

FOR FURTHER INFORMATION CONTACT: Jack E. Whitten, Chief, Nuclear Materials Safety Branch B, Division of Nuclear Materials Safety, Region IV Office, U.S. Nuclear Regulatory Commission, Arlington, Texas, 76011. Telephone: 817-860-8197; fax number: 817-860-8188; e-mail: Jack.Whitten@nrc.gov.

SUPPLEMENTARY INFORMATION:

I. Introduction

The Nuclear Regulatory Commission (NRC) is considering the issuance of a license amendment to Material License No. 50-02430-07, issued to the University of Alaska-Fairbanks (the licensee), to authorize the release of an incinerator previously used at the Arctic Health Research Building for unrestricted use and for removal from the license. The NRC has prepared an Environmental Assessment (EA) in support of this amendment in accordance with the requirements of 10 CFR part 51. Based on the EA, the NRC has concluded that a Finding of No Significant Impact (FONSI) is appropriate. The amendment will be issued following the publication of this Notice.

II. EA Summary

The purpose of the proposed amendment is to allow for the release of an incinerator previously used at the Arctic Health Research Building, University of Alaska-Fairbanks, Fairbanks, Alaska, for unrestricted use and removal from the license. The licensee was authorized by the NRC on June 28, 1982, to begin using an incinerator to dispose of radioactive wastes. The licensee has used this incinerator to dispose of biologically hazardous wastes containing low-level radioactive materials. On July 30, 2008, the licensee requested authorization to decommission this incinerator. The licensee stated that it had disposed of wastes containing low levels of hydrogen-3 (tritium) and carbon-14 by incineration. The licensee also disposed of wastes containing phosphorus-32, sulfur-35, and iodine-125 via incinerator after the radioisotopes were allowed to decay in storage. The licensee's submittal included radiological survey results for the incinerator, the area around the incinerator, and accessible areas of the discharge stack. The NRC staff reviewed the licensee's submittal and requested additional information about the proposed decommissioning plan. The licensee responded with additional information by letter dated July 12, 2009. The licensee conducted an historical assessment and concluded that the incinerator had been used for 17 years. The licensee estimated that it had disposed of wastes containing about 19 millicuries (0.7 gigabecquerels) of hydrogen-3 (tritium) and about 13 millicuries (0.47 gigabecquerels) of carbon-14. All other radionuclides that were incinerated had short half-lives (less than 88 days) and were allowed to decay in storage prior to incineration. The licensee included additional survey measurements of the accessible areas of the incinerator in its second submittal. The NRC subsequently approved the decommissioning plan by license amendment dated August 12, 2009. The licensee completed decommissioning and submitted a final status survey report to the NRC by letter dated November 16, 2009. The final status survey report included survey data for the discharge stack, data collected from areas that were inaccessible during previous surveys.

The NRC staff conducted a technical review of the licensee's radiological survey data. The licensee's final status survey results were well below the NRC's screening values for hydrogen-3 and carbon-14 as presented in NUREG-1757, Volume 1, Revision 2, “Consolidated Decommissioning Guidance: Decommissioning Process for Materials Licensees,” Table B.1, Acceptable License Termination Screening Values of Common Radionuclides for Building-Surface Contamination.” The NRC staff also compared the final status survey results to the equipment release criteria provided in Regulatory Guide 1.86, “Termination of Operating Licenses for Nuclear Reactors,” Table 1, Acceptable Surface Contamination Levels. In summary, the licensee conducted radiological surveys of the incinerator and provided sufficient information to the NRC demonstrating that the incinerator meets the license termination criteria specified in Subpart E to 10 CFR Part 20 for unrestricted release of the incinerator. The staff has prepared this EA in support of the proposed license amendment.

This proposed license amendment will allow the licensee to free-release the decommissioned incinerator without any radiological restrictions. In accordance with the current license, the licensee will continue to be authorized to dispose of biologically hazardous wastes containing limited quantities of licensed radioactive material using a different incinerator.

The staff has prepared this EA in support of the proposed license amendment to release the incinerator for unrestricted use. The staff has found that the radiological environmental impacts from the proposed amendment are bounded by the impacts evaluated by the “Generic Environmental Impact Statement in Support of Rulemaking on Radiological Criteria for License Termination of NRC-Licensed Facilities” (NUREG-1496). The staff has also found that the non-radiological impacts are not significant. The staff consulted with the State of Alaska, and the State had no comments on the proposed action.

III. Finding of No Significant Impact

On the basis of this EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agency Wide Document Access and Management System (ADAMS), which provides text and image files of NRC's public documents. The ADAMS accession numbers for the documents related to this notice are:

1. NRC, “Generic Environmental Impact Statement in Support of Rulemaking on Radiological Criteria for License Termination of NRC-Licensed Nuclear Facilities,” NUREG-1496, July 1997 (ML042310492, ML042320379, and ML042330385).

2. Martinson, Tracey A., University of Alaska-Fairbanks, Licensee letter requesting release of incinerator, July 30, 2008 (ML082420967).

3. NRC, Request for additional information, June 4, 2009 (ML091560189).

4. Martinson, Tracey A., University of Alaska-Fairbanks, Proposed decommissioning plan, July 12, 2009 (ML110310647).

5. NRC, License amendment, August 12, 2009 (ML092240357).

6. Martinson, Tracey A., University of Alaska-Fairbanks, Final status survey report, November 16, 2009 (ML093641107).

If you do not have access to ADAMS or if there are problems in accessing the documents located in ADAMS, contact the NRC Public Document Room (PDR) Reference staff at 1-800-397-4209 or 301-415-4737 or by e-mail to pdr.resource@nrc.gov.

These documents may also be viewed electronically on the public computers located at the NRC's Public Document Room (PDR), O-1F21, One White Flint North, 11555 Rockville Pike, Rockville, MD 20852. The PDR reproduction contractor will copy documents for a fee.

Dated at Arlington, Texas this 31st day of March 2011.
For the Nuclear Regulatory Commission.
Jack E. Whitten,
Chief, Nuclear Materials Safety Branch B, Division of Nuclear Materials Safety, Region IV.

[FR Doc. 2011-8419 Filed 4-7-11; 8:45 am]

BILLING CODE 7590-01-P